ELECTION ASSISTANCE COMMISSION

Sunshine Act Meetings

AGENCY: U.S. Election Assistance Commission.

ACTION: Notice of public meeting agenda; correction.

SUMMARY: The U.S. Election Assistance Commission published a document in the Federal Register regarding the scheduled Moving VVSG 2.0 Forward meeting.

FOR FURTHER INFORMATION CONTACT: Kristen Muthig, Telephone: (202) 897-9285, Email: kmuthig@eac.gov.

SUPPLEMENTARY INFORMATION:

Correction

The Notice appeared in the Federal Register of August 30, 2021, in FR Doc. 2021-18729, on page 48409, in the second column, the Agenda section should be corrected to read:

Agenda: The U.S. Election Assistance Commission (EAC) will meet with panels consisting of voting system manufacturers, voting system test labs (VSTLs), and representatives from the election administration community to discuss various aspects of the final stages of VVSG 2.0 implementation. This includes the state of developing voting system equipment for VVSG 2.0 compliance, preparation for testing against the new requirements, and the need for VVSG 2.0 compliant systems. The EAC Commissioners will be requesting feedback from the panels on these topics.

The full agenda will be posted in advance on the EAC website: https://www.eac.gov.

Amanda Joiner,
Associate Counsel, U.S. Election Assistance Commission.

[FR Doc. 2021-18981 Filed 9-1-21; 4:15 pm]

BILLING CODE 6820-KF-P